DEPARTMENT OF COMMERCE

National Institute of Standards and Technology

National Institute of Standards and Technology; Performance Review Board Membership

The National Institute of Standards and Technology Performance Review Board (NIST PRB) reviews performance appraisals, agreements, and recommended actions pertaining to employees in the Senior Executive Service and ST-3104 employees. The Board makes recommendations to the appropriate appointing authority concerning such matters so as to ensure the fair and equitable treatment of these individuals.

This notice lists the membership of the NIST PRB and supersedes the list published in Federal Register Vol. 75, No. 95, page 27708, on May 18, 2010.

Delwin Brockett (C), Chief Information Officer, National Institute of Standards & Technology, Gaithersburg, MD 20899, Appointment Expires: 12/31/13.

Robert Dimeo (C), Director, NIST Center for Neutron Research, National Institute of Standards & Technology, Gaithersburg, MD 20899, Appointment Expires: 12/31/12.

Stella Fiotes (C) (alternate), Chief Facilities Management Officer, National Institute of Standards & Technology, Gaithersburg, MD 20899, Appointment Expires: 12/31/12.

Ellen Herbst (C), Senior Advisor for Policy and Program Integration, Office of the Deputy Secretary, Department of Commerce, Washington, DC 20230, Appointment Expires: 12/31/2012.

Nancy Potok (NC), Deputy Under Secretary for Economic Affairs, Economics and Statistics Administration, Department of Commerce, Washington, DC 20230, Appointment Expires: 12/31/2012.

Sivaraj Shyam-Sunder (C) (alternate), Director, Engineering Laboratory, National Institute of Standards & Technology, Gaithersburg, MD 20899, Appointment Expires: 12/31/12.

Dated: September 1, 2011.
Willie E. May,
Associate Director for Laboratory Programs.

[FR Doc. 2011-23117 Filed 9-8-11; 8:45 am]

BILLING CODE 3510-13-P